ENVIRONMENTAL PROTECTION AGENCY

[EPA-HQ-OA-2022-0050; FRL-9568-01-OA]

White House Environmental Justice Advisory Council; Notification of Virtual Public Meeting

AGENCY: Environmental Protection Agency (EPA).

ACTION: Notification for a public meeting.

SUMMARY: Pursuant to the Federal Advisory Committee Act (FACA), the U.S. Environmental Protection Agency (EPA) hereby provides notice that the White House Environmental Justice Advisory Council (WHEJAC) will meet on the dates and times described below. Due to unforeseen administrative circumstances, EPA is announcing this meeting with less than 15 calendar days public notice. EPA is announcing a meeting on February 24, 2022. The meeting is open to the public. Members of the public are encouraged to provide comments relevant to the scorecard that is being developed by the White House Environmental Justice Interagency Council (IAC) to assess the progress of federal agencies' in addressing current and historic environmental injustice. For additional information about registering to attend the meetings or to provide public comment, please see “REGISTRATION” under SUPPLEMENTARY INFORMATION Pre-registration is required.

DATES: The WHEJAC will hold a virtual public meeting on Thursday, February 24, 2022, from approximately 3 p.m.-7 p.m., Eastern Time. A public comment period relevant to the scorecard will be considered by the WHEJAC during the meeting. (see SUPPLEMENTARY INFORMATION). Members of the public who wish to participate during the public comment period must pre-register by 11:59 p.m., Eastern Time, February 21, 2022.

FOR FURTHER INFORMATION CONTACT: Karen L. Martin, WHEJAC Designated Federal Officer, U.S. EPA; email: whejac@epa.gov; telephone: (202) 564-0203. Additional information about the WHEJAC is available at https://www.epa.gov/environmentaljustice/white-house-environmental-justice-advisory-council.

SUPPLEMENTARY INFORMATION: The meeting discussion will focus on the performance scorecard that is being developed by the White House Environmental Justice Interagency Council to assess the progress of federal agencies' in addressing current and historic environmental injustice. Executive Order 14008, Section 220 (d) tasks the IAC to develop clear performance metrics to ensure accountability, in consultation with the White House Environmental Justice Advisory Council.

The Charter of the WHEJAC states that the advisory committee will provide independent advice and recommendations to the Chair of the Council on Environmental Quality and to the White House Environmental Justice Interagency Council. The WHEJAC will provide advice and recommendations about broad cross-cutting issues, related but not limited to, issues of environmental justice and pollution reduction, energy, climate change mitigation and resiliency, environmental health, and racial inequity. The WHEJAC's efforts will include a broad range of strategic, scientific, technological, regulatory, community engagement, and economic issues related to environmental justice.

Registration: Individual registration is required for the virtual public meeting. Information on how to register is located at https://www.epa.gov/environmentaljustice/white-house-environmental-justice-advisory-council. Registration for the meeting is available through the scheduled end time of the meeting. Registration to speak during the public comment period will close 11:59 p.m., Eastern Time, on February 21, 2022. When registering, please provide your name, organization, city and state, and email address for follow up. Please also indicate whether you would like to provide public comment during the meeting, and whether you are submitting written comments at the time of registration.

A. Public Comment

The WHEJAC is interested in receiving public comments specific to the development of an annual public performance scorecard and the types of indicators or data that would be useful in a scorecard. This scorecard will provide a method for evaluation and accountability to assess progress on agencies' progress in addressing historic environmental justice. Every effort will be made to hear from as many registered public commenters during the time specified on the agenda. Individuals or groups making remarks during the public comment period will be limited to three (3) minutes. Please be prepared to briefly describe your issue and what you want the WHEJAC to advise CEQ and IAC to do. Submitting written comments for the record are strongly encouraged. You can submit your written comments in three different ways, (1.) by creating comments in the Docket ID No. EPA-HQ-OA-2022-0050 at http://www.regulations.gov, (2.) by using the webform at https://www.epa.gov/environmentaljustice/white-house-environmental-justice-advisory-council#whejacmeeting, and (3.) by sending comments via email to wheja@epa.gov . Written comments can be submitted through March 10, 2022.

B. Information About Services for Individuals With Disabilities or Requiring English Language Translation Assistance

For information about access or services for individuals requiring assistance, please contact Karen L. Martin, via email at whejac@epa.gov or contact by phone at (202) 564-0203. To request special accommodations for a disability or other assistance, please submit your request at least seven (7) working days prior to the meeting, to give EPA sufficient time to process your request. All requests should be sent to the email listed in the FOR FURTHER INFORMATION CONTACT section.

Matthew Tejada,
Director for the Office of Environmental Justice.

[FR Doc. 2022-03262 Filed 2-15-22; 8:45 am]

BILLING CODE 6560-50-P